DEPARTMENT OF STATE

[Public Notice 12911]

60-Day Notice of Proposed Information Collection: Request for Commodity Jurisdiction Determination

ACTION: Notice of request for public comment.

SUMMARY: The Department of State (the Department) is seeking Office of Management and Budget (OMB) approval for the revised information collection in support of its Commodity Jurisdiction (CJ) Determination process. In accordance with the Paperwork Reduction Act of 1995, the Department is requesting comments on this collection from all interested individuals and organizations. The purpose of this notice is to allow 60 days for public comment preceding the Department's submission of the collection to OMB.

DATES: The Department will accept comments from the public up to March 16, 2026.

ADDRESSES: You may submit comments by any of the following methods:

• Web: Persons with access to the internet may comment on this notice by going to www.Regulations.gov. You can search for the document by entering “Docket Number: DOS-2026-0034 in the Search field. Then click the “Comment Now” button and complete the comment form.

• Email: DDTCPublicComments@state.gov. Include “ATTN: OMB Approval, CJ Determination Information Collection” in the subject line of the email message.

• Regular Mail: Send written comments to: Directorate of Defense Trade Controls, Department of State, 2401 E St. NW, Suite H1205, Washington, DC 20522.

You must include the DS form number (DS-4076), information collection title (Commodity Jurisdiction Determination Form), and the OMB control number (1405-0163) in any correspondence.

FOR FURTHER INFORMATION CONTACT: Direct requests for additional information regarding the collection listed in this notice, including requests for copies of the proposed collection instrument and supporting documents, to Andrea Battista, who may be reached at battistaal@state.gov or 202-992-0973.

SUPPLEMENTARY INFORMATION:

• Title of Information Collection: Request for Commodity Jurisdiction Determination Form.

• OMB Control Number: 1405-0163.

• Type of Request: Renewal of a Currently Approved Collection.

• Originating Office: Directorate of Defense Trade Controls (PM/DDTC).

• Form Number: DS-4076.

• Respondents: Any person requesting a commodity jurisdiction determination.

• Estimated Number of Respondents: 300.

• Estimated Number of Responses: 300.

• Average Time per Response: 4 hours.

• Total Estimated Burden Time: 1,200 hours.

• Frequency: On occasion.

• Obligation to Respond: Voluntary.

The Department is soliciting public comments to permit it to:

• Evaluate whether the scope of the proposed information collection is both necessary and sufficient for administering the Department's CJ Determination function.

• Evaluate the accuracy of the Department's estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Pursuant to ITAR § 120.4, the commodity jurisdiction procedure may be used to request the Department's Directorate of Defense Trade Controls to provide a determination of whether a particular article or service is covered by the U.S. Munitions List (USML). Form DS-4076 is the means by which respondents may submit this request. Information submitted via Form DS-4076 will be shared with the Departments of War, Commerce, and other USG agencies, as needed, during the CJ determination review process. Determinations will be made on a case-by-case basis based on the commodity's form, fit, function, performance capability, and design history.

Methodology

Respondents must generally submit the DS-4076 electronically through DDTC's electronic system. Respondents may access the DS-4076 on DDTC's website, www.pmddtc.state.gov, under “Commodity Jurisdictions (CJs).” Respondents who are unable to access DDTC's website may mail a signed DS-4076, along with a brief cover letter explaining their inability to file the electronic DS-4076, to the Office of Defense Trade Controls Policy, Department of State, 2401 E St. NW, Suite H1304, Washington, DC 20522.

Michael J. Vaccaro,
Deputy Assistant Secretary, Directorate of Defense Trade Controls, Department of State.

[FR Doc. 2026-00694 Filed 1-14-26; 8:45 am]

BILLING CODE 4710-25-P